DEPARTMENT OF HOMELAND SECURITY

Federal Emergency Management Agency

[Docket ID: FEMA-2016-0005; OMB No. 1660-0082]

Agency Information Collection Activities: Submission for OMB Review; Comment Request; Application for Community Disaster Loan Cancellation

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before June 6, 2016.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION:

This information collection previously published in the Federal Register on February 19, 2016 at 81 FR 8521 with a 60 day public comment period. No comments were received. The purpose of this notice is to notify the public that FEMA will submit the information collection abstracted below to the Office of Management and Budget for review and clearance.

Collection of Information

Title: Application for Community Disaster Loan Cancellation.

Type of information collection: Extension, without change, of a currently approved information collection.

OMB Number: 1660-0082.

Form Titles and Numbers: FEMA Form 009-0-15, Application for Loan Cancellation.

Abstract: The loan cancellation form for the Community Disaster Loan Program provides local governments that have suffered substantial loss of tax or other revenues as a result of a major disaster or emergency and have not recovered financially during the third fiscal year post-disaster the opportunity to request cancellation of their loan. The loan cancellation must be justified on the basis of need and actual expenses.

Affected Public: State, Local or Tribal Government.

Estimated Number of Respondents: 81.

Estimated Total Annual Burden Hours: 81 hours.

Estimated Cost: The estimated annual cost to respondents for the hour burden is $3,947.13. There are no annual costs to respondents' operations and maintenance costs for technical services. There are no annual start-up or capital costs. The cost to the Federal Government is $12,355.11.

Dated: April 29, 2016.
Richard W. Mattison,
Records Management Program Chief, Mission Support, Federal Emergency Management Agency, Department of Homeland Security.

[FR Doc. 2016-10645 Filed 5-5-16; 8:45 am]

BILLING CODE 9111-23-P